INTERNATIONAL TRADE COMMISSION

[Investigation Nos. 701-TA-563 and 731-TA-1331-1332 (Final)]

Finished Carbon Steel Flanges From India and Italy; Supplemental Schedule for the Subject Investigations

AGENCY: United States International Trade Commission.

ACTION: Notice.

DATES: Effective June 29, 2017.

FOR FURTHER INFORMATION CONTACT: Drew Dushkes (202-205-3229), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective February 8, 2017, the Commission established a general schedule for the conduct of the final phase of its investigations on finished carbon steel flanges from India, Italy, and Spain.¹ The Department of Commerce's preliminary determinations for imports from India and Italy were published on November 29, 2016 and February 8, 2017.² The Department of Commerce's final determinations for imports from India and Italy were published on June 29, 2017.³ The Commission, therefore, is issuing a supplemental schedule for its investigations on imports of finished carbon steel flanges from India and Italy.

¹ Finished Carbon Steel Flanges from India, Italy and Spain; Scheduling of the Final Phase of Countervailing Duty and Antidumping Duty Investigations, 82 FR 11056, February 17, 2017.

² Finished Carbon Steel Flanges from India: Preliminary Affirmative Countervailing Duty Determination, 81 FR 85928, November 29, 2016; Finished Carbon Steel Flanges from Italy: Preliminary Determination of Sales at Less Than Fair Value and Postponement of Final Determination, 82 FR 9711, February 8, 2017; Finished Carbon Steel Flanges from India: Preliminary Determination of Sales at Less Than Fair Value and Postponement of Final Determination, 21 FR 9719, February 8, 2017.

³ Finished Carbon Steel Flanges from India: Final Affirmative Countervailing Duty Determination, 82 FR 29479, June 29, 2017; Finished Carbon Steel Flanges from Italy: Final Determination of Sales at Less Than Fair Value, 82 FR 29481, June 29, 2017; Finished Carbon Steel Flanges from India: Final Determination of Sales at Less Than Fair Value, 82 FR 29483, June 29, 2017.

The Commission's supplemental schedule is as follows: The deadline for filing supplemental party comments on Commerce's final determinations is July 11, 2017; the staff report in the final phase of these investigations will be placed in the nonpublic record on July 21, 2017; and a public version will be issued thereafter.

Supplemental party comments may address only Commerce's final determinations regarding imports from India and Italy. These supplemental final comments may not contain new factual information and may not exceed five (5) pages in length.

For further information concerning these investigations see the Commission's notice cited above and the Commission's Rules of Practice and Procedure, part 201, subparts A and B (19 CFR part 201), and part 207, subparts A and C (19 CFR part 207).

Authority: These investigations are being conducted under authority of title VII of the Tariff Act of 1930; this notice is published pursuant to section 207.21 of the Commission's rules.

By order of the Commission.
Issued: July 6, 2017.
Lisa R. Barton,
Secretary to the Commission.

[FR Doc. 2017-14498 Filed 7-10-17; 8:45 am]

BILLING CODE 7020-02-P